DEPARTMENT OF VETERANS AFFAIRS

[OMB Control No. 2900-0757]

Agency Information Collection Activity: Supportive Services for Veteran Families (SSVF) Program—Grant Application, Survey and Report

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before January 13, 2025.

ADDRESSES: Comments must be submitted through www.regulations.gov.

FOR FURTHER INFORMATION CONTACT:

Program-Specific information: Rebecca Mimnall, 202-695-9434, vhacopra@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Supportive Services for Veteran Families (SSVF) Program—Grant Application, Survey and Report (VA Forms 10-10072, 10-10072a, 10-10072b and 10-10072c).

OMB Control Number: 2900-0757. https://www.reginfo.gov/public/do/PRASearch (Once at this link, you can enter the OMB Control Number to find the historical versions of this Information Collection).

Type of Review: Revision of a currently approved collection.

Abstract: Consistent with the Financial Assistance for Supportive Services Act (38 U.S.C. 2044), the purpose of the Supportive Services for Veteran Families (SSVF) Program is to provide supportive services grants to private non-profit organizations and consumer cooperatives who will coordinate or provide supportive services to very low- income veteran families who are residing in permanent housing, are homeless and scheduled to become residents of permanent housing within a specified time period, or after exiting permanent housing, are seeking other housing that is responsive to such very low-income veteran family needs and preferences. The following VA forms are included in this collection: 1. Application for Supportive Services Grants, VA Form 10-10072; 2. Participant Satisfaction Survey, VA Form 10-10072a; 3. Quarterly Grantee Performance Report, VA Form 10-10072b; and 4. Renewal Application, VA Form 10-10072c. The information collected will be used by the SSVF Program Office to determine the allocation of grant funds under the SSVF Program. This collection has a reduction in the number of responses and burden hours because the SSVF Program no longer requires a pre-service survey, but SSVF will continue to administer an exit Participant Satisfaction Survey.

Total Annual Burden: 22,693 hours.

Total Annual Responses: 13,230.

VA Form 10-10072

Affected Public: Individuals or Households.

Estimated Annual Burden: 14,000 hours.

Estimated Average Burden per Respondent: 2100 minutes.

Frequency of Response: Once annually.

Estimated Number of Respondents: 400.

VA Form 10-10072a

Affected Public: Individuals or Households.

Estimated Annual Burden: 2,813 hours.

Estimated Average Burden per Respondent: 15 minutes.

Frequency of Response: Once annually.

Estimated Number of Respondents: 11,250.

VA Form 10-10072b

Affected Public: Individuals or Households.

Estimated Annual Burden: 2,880 hours.

Estimated Average Burden per Respondent: 135 minutes.

Frequency of Response: Once annually.

Estimated Number of Respondents: 320.

VA Form 10-10072c

Affected Public: Individuals or Households.

Estimated Annual Burden: 3,000 hours.

Estimated Average Burden per Respondent: 600 minutes.

Frequency of Response: Once annually.

Estimated Number of Respondents: 300.

(Authority: 44 U.S.C. 3501 et seq.)

Dorothy Glasgow,
VA PRA Clearance Officer, (Alt.), Office of Enterprise and Integration/Data Governance Analytics, Department of Veterans Affairs.

[FR Doc. 2024-26269 Filed 11-12-24; 8:45 am]

BILLING CODE 8320-01-P